DEPARTMENT OF ENERGY

Federal Energy Regulatory Commission

[Project No. 2839-015]

Village of Lyndonville Electric; Notice of Technical Meeting

a. Date and Time of Meeting: December 17, 2019 at 2:00 p.m. Eastern Standard Time.

b. Place: Telephone conference.

c. FERC Contact: Amanda Gill at amanda.gill@ferc.gov, or (202) 502-6773.

d. Purpose of Meeting: Commission Staff is hosting a technical meeting to discuss comments on the Environmental Assessment and Draft Programmatic Agreement filed by the Vermont State Historic Preservation Office on September 27, 2019.

e. A map of the proposed project boundary, which is coincident with the area of potential effects, is attached to aid in discussion.

f. A summary of the meeting will be prepared and filed in the Commission's public file for the project.

g. All local, state, and federal agencies, Indian tribes, and other interested parties are invited to participate by phone. Please call Amanda Gill at (202) 502-6773 by December 16, 2019, to RSVP and to receive specific instructions on how to participate.

Dated: December 4, 2019.
Kimberly D. Bose,
Secretary.

[FR Doc. 2019-26529 Filed 12-9-19; 8:45 am]

BILLING CODE 6717-01-P